DEPARTMENT OF AGRICULTURE

Forest Service

Extension of Currently Approved Information Collection for Special Use Administration

AGENCY: Forest Service, USDA.

ACTION: Notice of intent; request for comments.

SUMMARY: In accordance with the Paperwork Reduction Act of 1995, the Forest Service announces its intent to request an extension of a currently approved information collection for the administration of special uses on National Forest System lands. The information helps the Forest Service ensure that the authorized use of Federal land is in the public interest and compatible with the mission of the agency. Respondents will include individuals, groups, organizations, businesses, corporations, and Federal, State, and local governments.

DATES: Comments must be received in writing on or before January 27, 2003. Comments received after that date will be considered to the extent practical.

ADDRESSES: All comments should be addressed to: Director, Lands Staff (Mail Stop 1124), Forest Service, 1400 Independence Avenue, SW., Washington, DC 20250-1124 or e-mail mhearst@fs.fed.us.

FOR FURTHER INFORMATION CONTACT: Melissa Hearst, Lands Staff, at (202) 205-1196.

SUPPLEMENTARY INFORMATION:

Background

The forms described in this request for extension of an information collection are used by the agency to issue and administer special use permits to use or occupy National Forest System lands. The data collected will be evaluated by the Forest Service to ensure that the authorized use of Federal land is in the public interest and is compatible with the mission of the agency. The data will help identify environmental and social impacts of special uses and will ascertain whether the agency is receiving a fair market rental fee for the use of National Forest System lands. The data will be collected through application forms and stipulations in operating plans and special use authorizations. There are four general categories of information requests: (1) Initial and amended application process; (2) annual financial information; (3) preparing and updating operation and maintenance plans; and (4) compliance reports and information updates.

Description of Information Collection

1. Application Process

The following describes the information collections required for the application process:

a. Title: Form SF-299, Application for Transportation and Utility Systems and Facilities on Federal Lands.

OMB Number: 0596-0082.

Expiration Date of Approval: November 30, 2002.

Type of Request: Extension of previously approved information collection.

Abstract: The information provided on this form is used by the authorized officer to evaluate the applicant's technical and financial capability, nature of the proposed operations, and anticipated environmental impacts and proposed mitigation of those impacts. This form is used for the majority of nonrecreational requests to use National Forest System lands.

Estimate of Burden: 8 hours.

Type of respondents: Individuals, businesses, corporations, and Federal, State, and local governments.

Estimated number of respondents: 1,500.

Estimated number of responses per respondent: 1.

Estimated total annual burden on respondents: 12,000 hours.

b. Title: Form FS-27003a, Request for Termination of and Application for Special Use Permit.

OMB Number: 0596-0082.

Expiration Date of Approval: November 30, 2002.

Type of Request: Extension of previously approved information collection.

Abstract: The information provided on this form is used by the authorized officer to facilitate issuance of a new authorization when the private improvements authorized on National Forest System lands change ownership.

Estimate of Burden: 0.5 hours.

Type of respondents: Individuals, businesses, and corporations.

Estimated number of respondents: 1,000.

Estimated number of responses per respondent: 1.

Estimated total annual burden on respondents: 500 hours.

c. Title: Form FS-27003b, Special Use Application and Permit for Noncommercial Group Use.

OMB Number: 0596-0082.

Expiration Date of Approval: November 30, 2002.

Type of Request: Extension of previously approved information collection.

Abstract: The information provided on this form is used by the authorized officer to evaluate requests, such as noncommercial group gatherings, to use National Forest System lands. These requests usually involve First Amendment rights that require a short, specific time frame (48 hours) for the agency to approve or deny the request.

Estimate of Burden: 1 hour.

Type of respondents: Individuals, groups, organizations.

Estimated number of respondents: 2,400.

Estimated number of responses per respondent: 1.

Estimated total annual burden on respondents: 2,400 hours.

d. Title: Form FS-27003c, Special Use Application and Permit for Recreation Events.

OMB Number: 0596-0082.

Expiration Date of Approval: November 30, 2002.

Type of Request: Extension of previously approved information collection.

Abstract: The information provided on this form is used by the authorized officer to evaluate requests to use National Forest System lands for recreation events.

Estimate of Burden: 1 hour.

Type of respondents: Individuals, groups, organizations.

Estimated number of respondents: 2,000.

Estimated number of responses per respondent: 1.

Estimated total annual burden on respondents: 2,000 hours.

e. Title: Form FS-2700-3e, Special Use Application and Permit for Government-Owned Buildings.

OMB Number: 0596-0082.

Expiration Date of Approval: November 30, 2002.

Type of Request: Extension of previously approved information collection.

Abstract: The information provided on this form is used by the authorized officer to evaluate requests to utilize, through a special use permit, Government-owned buildings and facilities.

Estimate of Burden: 0.25 hours.

Type of respondents: Individuals, businesses, corporations, and Federal, State, and local governments.

Estimated number of respondents: 3,200.

Estimated number of responses per respondent: 1.

Estimated total annual burden on respondents: 800 hours.

f. Title: Form FS-2700-10, Technical Data for Communications Uses.

OMB Number: 0596-0082.

Expiration Date of Approval: November 30, 2002.

Type of Request: Extension of previously approved information collection.

Abstract: The information provided on this form is used by the authorized officer to evaluate the compatibility of communications equipment at a communications site to minimize frequency interference and other compatibility problems.

Estimate of Burden: 0.5 hours.

Type of respondents: Individuals, businesses, corporations, and Federal, State, and local governments.

Estimated number of respondents: 500.

Estimated number of responses per respondent: 1.

Estimated total annual burden on respondents: 250 hours.

g. Title: Form FS-6500-24, Financial Statement.

OMB Number: 0596-0082.

Expiration Date of Approval: November 30, 2002.

Type of Request: Extension of previously approved information collection.

Abstract: The information provided on this form is used by the authorized officer to evaluate the financial capability of an applicant to undertake the requested use and to comply with the terms and conditions of an authorization if issued. This form is used primarily for requests to operate Government-owned campgrounds, or requests for ski or resort area use on National Forest System lands.

Estimate of Burden: 8 hours.

Type of respondents: Individuals, businesses, corporations, and Federal, State, and local governments.

Estimated number of respondents: 100.

Estimated number of responses per respondent: 1.

Estimated total annual burden on respondents: 800 hours.

h. Title: Form FS-6500-25, Request for Verification.

OMB Number: 0596-0082.

Expiration Date of Approval: November 30, 2002.

Type of Request: Extension of previously approved information collection.

Abstract: The information provided on this form is used by the authorized officer to evaluate the financial capability of an applicant to undertake the requested use and to comply with the terms and conditions of an authorization if issued. This form is used primarily for requests to operate Government-owned campgrounds, or requests for ski area or resort area use on National Forest System lands.

Estimate of Burden: 0.5 hours.

Type of respondents: Individuals, businesses, corporations, and Federal, State, and local governments.

Estimated number of respondents: 100.

Estimated number of responses per respondent: 1.

Estimated total annual burden on respondents: 50 hours.

2. Annual Financial Information

Title V of the Federal Land Policy and Management Act of 1976, the Independent Offices Appropriation Act of 1952, and the Office of Management and Budget Circular A-25 require the Forest Service to collect rental fees that reflect fair market value for the use of National Forest System lands. Special use authorizations may contain specific terms and conditions requiring the holder to provide the authorized officer with the information necessary to calculate fair market value rental fees. Procedures for how the information is provided and when it is required are contained in the authorization terms and conditions. Information requests for financial information are provided to the authorized officer in a variety of ways. Several examples include gross revenues, value of capital improvements, number of trips and/or customers served, or a listing of occupants in a communications site building.

The following describes the information collections required to obtain financial information:

a. Title: Form FS-2700-7, Reconciliation of Sales for Fee Calculation.

OMB Number: 0596-0082.

Expiration Date of Approval: November 30, 2002.

Type of Request: Extension of previously approved information collection.

Abstract: The information provided on this form is used by the authorized officer to determine the annual rental fee due the Federal Government for the use of National Forest System lands.

Estimate of Burden: 1 hour.

Type of respondents: Individuals, businesses, corporations, groups, and organizations.

Estimated number of respondents: 275.

Estimated number of responses per respondent: 1.

Estimated total annual burden on respondents: 275 hours.

b. Title: Form FS-2700-8, Reconciliation of Gross Fixed Assets (GFA) to Booked Amounts.

OMB Number: 0596-0082.

Expiration Date of Approval: November 30, 2002.

Type of Request: Extension of previously approved information collection.

Abstract: The information provided on this form is used by the authorized officer to determine the annual rental fee due the Federal Government for the use of National Forest System lands based on gross fixed assets of the entity holding the permit.

Estimate of Burden: 1 hour.

Type of respondents: Individuals, businesses, corporations, groups, and organizations.

Estimated number of respondents: 275.

Estimated number of responses per respondent: 1.

Estimated total annual burden on respondents: 275 hours.

c. Title: Form FS-2700-10a, Telecommunications Facility Inventory.

OMB Number: 0596-0082.

Expiration Date of Approval: November 30, 2002.

Type of Request: Extension of previously approved information collection.

Abstract: The information provided on this form is used by the authorized officer to determine the annual rental for a communications facility based on the number of tenants in that facility. This form provides the authorized officer with that information.

Estimate of Burden: 1 hour.

Type of respondents: Individuals, businesses, corporations, and State, and local governments.

Estimated number of respondents: 3,000.

Estimated number of responses per respondent: 1.

Estimated total annual burden on respondents: 3,000 hours.

d. Title: Form FS-2700-19, Fee Calculation for Concession Permits.

OMB Number: 0596-0082.

Expiration Date of Approval: November 30, 2002.

Type of Request: Extension of previously approved information collection.

Abstract: The information provided on this form is used by the authorized officer to determine the annual rental fee due the Federal Government for concession permits.

Estimate of Burden: 1 hour.

Type of respondents: Individuals, businesses, corporations, groups, and organizations.

Estimated number of respondents: 275.

Estimated number of responses per respondent: 1.

Estimated total annual burden on respondents: 275 hours.

e. Title: Form FS-2700-19a, USDA Forest Service Fee Calculation For Ski Area Permits.

OMB Number: 0596-0082.

Expiration Date of Approval: November 30, 2002.

Type of Request: Extension of previously approved information collection.

Abstract: The information provided on this form is used by the authorized officer to determine the annual rental fee due the Federal Government for ski area permits.

Estimate of Burden: 1 hour.

Type of respondents: Individuals, businesses, corporations, groups, and organizations.

Estimated number of respondents: 100.

Estimated number of responses per respondent: 1.

Estimated total annual burden on respondents: 100 hours.

f. Title: Business Practices (no specific agency form for this information request).

OMB Number: 0596-0082.

Expiration Date of Approval: November 30, 2002.

Type of Request: Extension of previously approved information collection.

Abstract: The information is provided by the authorization holder to the agency when requested by the authorized officer or as a term and condition of the authorization. There is no specific form involved. The holder-provided information is usually maintained in a form that is customary for the type of business.

Estimate of Burden: 1 hour.

Type of respondents: Individuals, businesses, corporations, groups, and organizations.

Estimated number of respondents: 1,675.

Estimated number of responses per respondent: 1.5.

Estimated total annual burden on respondents: 2,513 hours.

3. Preparing and Updating Operation and Maintenance Plans

The following describes the information collection required to prepare and update an operation and maintenance plan:

Title: There is no specific agency form for this information request.

OMB Number: 0596-0082.

Expiration Date of Approval: November 30, 2002.

Type of Request: Extension of previously approved information collection.

Abstract: Special use authorizations may contain a clause requiring the holder of a special use authorization to prepare or update an operation and maintenance plan, when the authorized officer determines that the day-to-day operations of the use authorized need to be specified. This information is useful to the holder of the special use authorization and the Forest Service because it outlines procedures and policies used while the holder conducts operations or business on National Forest System lands. Typically, operation and maintenance plans contain daily operating guidelines, fire abatement and control procedures, monitoring guidelines, maintenance standards, safety and emergency plans, inspection standards and frequencies, and so forth. Operation and maintenance plans are not required for all special use authorizations, but are usually necessary for complex operations, commercial uses, and situations involving sensitive environmental areas.

Estimate of Burden: 1 hour.

Type of respondents: Individuals, businesses, corporations, groups, and organizations, Federal, State, and local governments.

Estimated number of respondents: 35,000.

Estimated number of responses per respondent: 1.

Estimated total annual burden on respondents: 35,000 hours.

4. Compliance Reports and Information Updates

The following describes the information collection required to obtain compliance reports and information updates:

Title: There is no specific agency form for this information collection.

OMB Number: 0596-0082.

Expiration Date of Approval: November 30, 2002.

Type of Request: Extension of previously approved information collection.

Abstract: Special use authorizations may contain specific terms and conditions requiring the holder to provide the authorized officer with compliance reports, information reports, and other information required by Federal law or required to properly manage National Forest System lands to ensure adequate protection of forest resources and public health and safety. Examples of compliance and information requests include dam maintenance inspection reports and logs required by the Reclamation Safety of Dams Act of 1978, the Federal Dam Safety Inspection Act of 1979, and the Dam Safety Act of 1983; documentation that authorized facilities passed safety inspections; documentation showing that the United States is covered in an insurance policy; notifications involving changes in corporation or partnership status; and documentation of compliance with nondiscrimination in Federally assisted programs as required by title VI and VII of the Civil Rights Act of 1964.

Estimate of Burden: 1 hour.

Type of respondents: Individuals, businesses, corporations, groups, and organizations, Federal, State, and local governments.

Estimated number of respondents: 13,500.

Estimated number of responses per respondent: 1.

Estimated total annual burden on respondents: 13,500 hours.

Comments Are Invited

The agency invites comments on the following: (a) Whether the proposed collection of information is necessary for the proper performance of the functions of the agency, including whether the information will have practical utility; (b) the accuracy of this agency's estimate of the burden of the proposed collection of information; (c) ways to enhance the quality, utility, and clarity of the information to be collected; and (d) ways to minimize the burden of the collection of information on respondents, including the use of automated collection techniques or other forms of information technology.

Use of Comments

All comments received in response to this notice, including names and addresses when provided, will be a matter of public record. In submitting this proposal to the Office of Management and Budget for approval, the Forest Service will summarize and respond to comments received.

Dated: November 21, 2002.
Abigal R. Kimbell,
Associate Deputy Chief, National Forest System.

[FR Doc. 02-30018 Filed 11-26-02; 8:45 am]

BILLING CODE 3410-11-P